DEPARTMENT OF COMMERCE

National Oceanic and Atmospheric Administration

[RTID 0648-XX047]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an exempted fishing permit application submitted by the Cape Cod Commercial Fishermen's Alliance contains all of the required information and warrants further consideration. This exempted fishing permit would require participants to use electronic monitoring systems on 100 percent of sector trips for catch accounting in the Northeast multispecies fishery; additionally, vessels would be authorized to access portions of Northeast multispecies closed areas. Regulations under the Magnuson-Stevens Fishery Conservation and Management Act require publication of this notification to provide interested parties the opportunity to comment on applications for proposed exempted fishing permits.

DATES: Comments must be received on or before April 23, 2020.

ADDRESSES: You may submit written comments by either of the following methods:

• Email: nmfs.gar.efp@noaa.gov. Include in the subject line “AUDIT-MODEL EM EFP.”

• Mail: Michael Pentony, Regional Administrator, NMFS, Greater Atlantic Regional Fisheries Office, 55 Great Republic Drive, Gloucester, MA 01930. Mark the outside of the envelope “AUDIT-MODEL EM EFP.”

FOR FURTHER INFORMATION CONTACT: Claire Fitz-Gerald, Fishery Policy Analyst, 978-281-9255.

SUPPLEMENTARY INFORMATION: Northeast multispecies (groundfish) sectors must implement and fund an at-sea monitoring (ASM) program, and the Northeast Multispecies Fishery Management Plan regulations allow sectors to use electronic monitoring (EM) to satisfy this monitoring requirement, provided that NMFS deems the technology sufficient for catch monitoring. NMFS recently notified the Council of its intent to allow sectors to submit EM plans instead of, or in addition to, ASM plans as part of the fishing year 2021 and 2022 sector operations plans approval process. For the 2020 fishing year, lessons learned through this exempted fishing permit (EFP) will allow NMFS to continue developing standards and requirements for the groundfish EM program. Project partners include the Cape Cod Commercial Fishermen's Alliance, The Nature Conservancy, the Maine Coast Fishermen's Association, and fishermen.

If approved, this EFP would build on previous EFPs issued to the project partners in support of the audit-model EM program for groundfish sectors. The first EFP was issued in fishing year 2017; participating vessels were required to use EM on 100 percent of sector trips and groundfish discards were calculated based on the video footage. Vessels were exempted from their sector's ASM requirements. Thirteen vessels using a variety of gear types (e.g. hook, benthic longline, sink gillnet, bottom trawl) participated in the project and completed a total of 81 trips. The EFP was renewed in fishing year 2018. We developed and implemented a protocol for verifying, or auditing, vessels' self-reported discards from the electronic vessel trip report (eVTR) against video footage. Vessels were also granted exemptions to fish in closed areas during certain times of the year. A total of 258 trips suitable for quota monitoring were completed during fishing year 2018. In fishing year 2019, we renewed the EFP again and reduced the targeted level of audit to 50 percent of trips based on a statistical analysis of EFP trips from fishing years 2017 and 2018. EVTRs were used to calculate discards for trips that were not selected for audit.

The project partners have submitted a renewal request for fishing year 2020. The proposed participant list includes 15 vessels, all of which participated in this EFP in fishing year 2019. Together, these vessels are expected to take a total of 590 trips. The project partners expect that additional vessels may join the project during fishing year 2020.

Vessels participating in this EFP would be exempt from the regulations requiring them to adhere to their sector's ASM program, and instead would be required to use EM on 100 percent of groundfish trips. Camera systems would be used in lieu of human at-sea monitors, and in addition to Northeast Fishery Observer Program (NEFOP) observers. Vessels would adhere to a vessel-specific monitoring plan detailing at-sea catch handling protocols. Vessels would submit haul-level eVTRs with count and weight estimates for all groundfish discards. In fishing year 2020, individual vessels may test different catch handling and reporting methodologies (e.g., volumetric sampling, sub-trip level eVTR), with our approval. Vessels would not be exempt from any other standard reporting and monitoring requirements.

The discard estimates provided in the eVTR would be used for catch accounting, and all catch of allocated groundfish would be deducted from the appropriate sector's allocation. The EM service provider would review the video footage and produce an EM summary report identifying, counting, and generating weight estimates for all groundfish discards. The provider would submit this report to NMFS. We would compare the eVTR and EM summary report to ensure the submissions match within an established tolerance. If the trips do not match, the eVTR would not be used for catch accounting for that trip. For trips that carry a NEFOP observer, the NEFOP data would be used for catch accounting.

In fishing year 2019, we targeted an audit level of 50 percent of trips. In fishing year 2020, we intend to develop performance-based audit standards and may adjust the targeted audit level for vessels up or down in an effort to test a performance-based audit. Developing and implementing a performance-based audit selection process would incentivize accurate reporting on eVTRs and good catch handling practices. Following the EM service provider's review of selected trips, the Northeast Fisheries Science Center would conduct a secondary review of the EM summary reports for a subset of trips, consistent with previous years.

Because participating vessels would be fully monitored and accountable, project partners requested exemptions to access closed areas, to incentivize participation and create additional fishing opportunities for healthy stocks. Vessels would be allowed to use hook gear and sink gillnets in Closed Area II from April 16 through January 31, hook gear (i.e., jig machines, handgear, benthic longlines) in the Western Gulf of Maine Closure Area, jig gear (i.e., jig machines and handgear) in the Cashes Ledge Closure Area, excluding the Ammen Rock Habitat Management Area, and benthic longlines in the Fippinnies Ledge portion of the Cashes Ledge Closure Area (west of 69°09.1′ W). All catch of allocated groundfish would be deducted from the appropriate sector's allocation.

Table 1—Estimates of Groundfish Catch in Closed Areas
| WGOM closure (lb) | WGOM closure (mt) | Cashes ledge closure (lb) | Cashes ledge closure (mt) | CAII (lb) | CAII (mt)
American Plaice |  |  |  |  |  |
Atlantic Halibut |  |  | 651 | 0 | 305 | 0
Atlantic Wolffish | 87 | 0 | 318 | 0 | 10 | 0
CC/GOM Yellowtail Flounder |  |  |  |  |  |
GB East Cod |  |  |  |  | 25,500 | 12
GB East Haddock |  |  |  |  | 25,100 | 11
GB West Cod |  |  |  |  |  |
GB West Haddock |  |  |  |  | 5,401 | 2
GB Winter Flounder |  |  |  |  | 1,015 | 0
GB Yellowtail Flounder |  |  |  |  |  |
GOM Cod | 6,322 | 3 | 16,888 | 8 |  |
GOM Haddock | 39,242 | 18 | 79,271 | 36 |  |
GOM Winter Flounder | 7 | 0 | 5 | 0 |  |
N. Windowpane Flounder |  |  |  |  |  |
Ocean Pout |  |  |  |  | 3 | 0
Pollock | 17,630 | 8 | 19,861 | 9 | 13,633 | 6
Redfish | 11 | 0 |  |  |  |
S. Windowpane Flounder |  |  |  |  |  |
SNE/MA Winter Flounder |  |  |  |  |  |
SNE/MA Yellowtail Flounder |  |  |  |  |  |
White Hake | 121 | 0 | 200 | 0 | 58 | 0
Witch Flounder |  |  |  |  |  |

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: April 3, 2020.
Hélène M.N. Scalliet,
Acting Director, Office of Sustainable Fisheries, National Marine Fisheries Service.

[FR Doc. 2020-07392 Filed 4-7-20; 8:45 am]

BILLING CODE 3510-22-P